DEPARTMENT OF COMMERCE

Foreign-Trade Zones Board

[B-25-2018]

Foreign-Trade Zone (FTZ) 81—Portsmouth, New Hampshire; Authorization of Production Activity Textiles Coated International Inc. (Polytetrafluoroethylene Products) Manchester and Londonderry, New Hampshire

On April 10, 2018, Textiles Coated International Inc., submitted a notification of proposed production activity to the FTZ Board for its facilities within Site 4 of FTZ 81, in Manchester and Londonderry, New Hampshire.

The notification was processed in accordance with the regulations of the FTZ Board (15 CFR part 400), including notice in the Federal Register inviting public comment (83 FR 17790, April 24, 2018). On August 8, 2018, the applicant was notified of the FTZ Board's decision that no further review of the activity is warranted at this time. The production activity described in the notification was authorized, subject to the FTZ Act and the FTZ Board's regulations, including Section 400.14, and to a restriction that woven glass fiber mats and woven glass fiber fabrics (colored and not colored) be admitted to the zone in privileged foreign status (19 CFR 146.41).

Dated: August 8, 2018.
Elizabeth Whiteman,
Acting Executive Secretary.

[FR Doc. 2018-17418 Filed 8-13-18; 8:45 am]

BILLING CODE 3510-DS-P